DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting via webinar.

SUMMARY: The Gulf of Mexico and South Atlantic Fishery Management Councils will hold a Joint Spiny Lobster Review Panel meeting via webinar.

DATES: The webinar will convene on Monday, March 28, 2016, 10 a.m. to 12 p.m. EDT.

ADDRESSES: The meeting will take place via webinar.

FOR FURTHER INFORMATION CONTACT: Dr. Morgan Kilgour, Fishery Biologist, Gulf of Mexico Fishery Management Council; morgan.kilgour@gulfcouncil.org, telephone: (813) 348-1630; and Kari Maclauchlin, Fishery Social Scientist; kari.maclauchlin@safmc.net, telephone: (843) 571-4366.

SUPPLEMENTARY INFORMATION: Please register for the Gulf of Mexico and South Atlantic Fishery Management Councils: Joint Spiny Lobster Review Panel Meeting on March 28, 2016, 10 a.m. EDT at: https://attendee.gotowebinar.com/register/6852168931907017731. After registering, you will receive a confirmation email containing information about joining the webinar.

Agenda

Staff will start the meeting with introductions. The review panel will review the 2014/15 spiny lobster landings and the 2015 Spiny Lobster Review Panel Report. The review panel will also review landings, effort, projections and commercial reporting requirements. The review panel will then discuss the 2014/2015 Annual Catch Target (ACT) overage.

—Meeting Adjourns—

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “Joint Spiny Lobster Review Panel meeting-2016-03”.

The meeting will be webcast over the Internet. A link to the webcast will be available on the Council's Web site, http://www.gulfcouncil.org.

Although other non-emergency issues not on the agenda may come before the Review Panel for discussion, in accordance with the Magnuson-Stevens Fishery Conservation and Management Act, those issues may not be the subject of formal action during this meeting. Actions of the Review Panel will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: March 8, 2016.
Tracey L. Thompson,
Acting Deputy Director, Office of Sustainable Fisheries, National Marine Fisheries Service.

[FR Doc. 2016-05546 Filed 3-10-16; 8:45 am]

BILLING CODE 3510-22-P